DEPARTMENT OF TRANSPORTATION

Federal Aviation Administration

Notice of Public Workshop and Notice of Availability of Draft Environmental Assessment for General Mitchell International Airport, Milwaukee, Wisconsin

AGENCY: Federal Aviation Administration, DOT.

ACTION: Notice of public workshop and notice of availability of draft environmental assessment.

SUMMARY: The Federal Aviation Administration (FAA) announces the release of the Draft Environmental Assessment (Draft EA) for the proposed airport improvements at the General Mitchell International Airport (MKE). The purpose of the Draft EA is to evaluate the potential environmental impacts from the decommissioning of Runway 1R/19L and Runway 13/31; conversion of Runway 1R/19L south of Taxiway W into a parallel taxiway including lighting and pavement rehabilitation; removal of Taxiway G, Taxiway U, and Taxiway N connectors; and the removal of runway and taxiway pavement and electrical utilities. The FAA is issuing this notice to advise the public that the Draft EA will be made available for public comment and a public workshop will be held as part of the public involvement process for this project. FAA is seeking comments on the Draft EA.

DATES: The Draft EA is available for public review beginning on September 23, 2024, and a public workshop will be held on October 23, 2024. Additional written comments may be filed with the project consultant, if received by November 6th, 2024, and should be directed to: Westwood Professional Services, ATTN: Airport Environmental, 1N Systems Drive, Appleton, Wisconsin 54914.

FOR FURTHER INFORMATION CONTACT: Emma Lienau, 2300 Devon Avenue, Suite 312, Des Plaines, Illinois 60018. 847-294-7551.

SUPPLEMENTARY INFORMATION: The DEA is available for public review at the following locations during normal business hours:

• Milwaukee Public Library at Tippecanoe Branch at 3912 South Howell Ave. Milwaukee, WI 53207;

• Cudahy Family Library at 3500 Library Drive, Cudahy, WI 53110;

• South Milwaukee Public Library at 1907 10th Ave., South Milwaukee, WI 53172; and

• St. Francis Public Library at 4230 S. Nicholson Avenue, St. Francis, WI 53235.

The Draft EA may also be viewed on the following website: https://westwoodps.com/milwaukee-mitchell-international-airport.

Further information regarding the proposed improvement is available at the WisDOT, Bureau of Aeronautics located at 4822 Madison Yards Way, 5th Floor South, Madison, Wisconsin.

A public workshop will be held to provide the public with information on the Draft EA. The workshop will be held from 5:00 p.m.-6:00p.m. on October 23rd, 2024, at the Sijan Conference Room in the Terminal Building of Milwaukee Mitchell International Airport, 5300 South Howell Ave., Milwaukee, WI 53207.

(Authority: 42 U.S.C. 4321, 40 CFR 1501.9(c)(5)(ii), FAA Order 1050.1F, paragraph 2-5.3(b))

Issued in Des Plaines, Illinois on September 26, 2024.

Robert J Esquivel,
Acting Manager, Chicago Airports District Office, FAA Great Lakes Region.

[FR Doc. 2024-22593 Filed 10-15-24; 8:45 am]

BILLING CODE 4910-13-P